DEPARTMENT OF EDUCATION

National Assessment Governing Board

AGENCY: National Assessment Governing Board, U.S. Department of Education.

ACTION: Announcement of open and closed meetings.

SUMMARY: This notice sets forth the agenda for the February 28-March 2, 2019 Quarterly Board Meeting of the National Assessment Governing Board (hereafter referred to as Governing Board). This notice provides information to members of the public who may be interested in attending the meeting or providing written comments related to the work of the Governing Board. Notice of this meeting is required under the Federal Advisory Committee Act (FACA).

DATES: The Quarterly Board Meeting will be held on the following dates:

• February 28, 2019 from 10:00 a.m. to 6:00 p.m.

• March 1, 2019 from 8:30 a.m. to 5:00 p.m.

• March 2, 2019 from 7:30 a.m. to 12:00 p.m.

ADDRESSES: The Ritz-Carlton Pentagon City, 1250 South Hayes Street, Arlington, VA 22202.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

February 28-March 2, 2019 Committee Meetings

The Governing Board's standing committees will meet to conduct regularly scheduled work based on agenda items planned for this Quarterly Board Meeting and follow-up items as reported in the Governing Board's committee meeting minutes available at https://www.nagb.gov/governing-board/quarterly-board-meetings.html.

Detailed Meeting Agenda: February 28, 2019

February 28: Committee Meetings

Assessment Development Committee: Closed Session: 10:00 a.m. to 1:30 p.m.; Open Session 1:30 p.m.-4:00 p.m.

Executive Committee: Open Session: 4:30 p.m. to 4:45 p.m.; Closed Session 4:45 p.m. to 5:55 p.m.; Open Session: 5:55 p.m.-6:00 p.m.

March 1: Full Governing Board and Committee Meetings

Full Governing Board: Open Session: 8:30 a.m. to 8:40 a.m.; Closed Sessions: 8:40 a.m. to 10: 00 a.m.; 1:00 p.m.-4:45 p.m.; Open Session: 4:45 p.m.-5:00 p.m.

Committee Meetings: 10:20 a.m. to 12:50 p.m.

Assessment Development Committee: Open Session: 10:20 a.m. to 12:50 p.m.

Reporting and Dissemination: Open Session: 10:20 a.m. to 10:25 a.m.; Closed Session: 10:25 a.m.-11:05 a.m.; Open Session: 11:05 a.m. to 12:50 p.m.

Committee on Standards, Design and Methodology: Open Session: 10:20 a.m. to 12:00 p.m.; Closed Session: 12:00 p.m.-12:50 p.m.

March 2: Full Governing Board and Committee Meetings:

Nominations Committee: Closed Session: 7:30 a.m. to 8:15 a.m.

Full Governing Board: Closed Session: 8:30 a.m. to 9:15 a.m.; Open Session: 9:30 a.m. to 10:45 a.m.; Closed Session: 10:45 a.m. to 11:45 a.m.; Open Session—11:45 a.m. to 12:00 p.m.

On Thursday, February 28, 2019, the Assessment Development Committee will meet in closed session from 10:00 a.m. to 1:30 p.m. and in open session from 1:30 p.m. to 4:00 p.m. During the closed session, the committee will review secure cognitive and contextual questionnaire items for the NAEP Assessments in Reading and Technology and Engineering Literacy. This meeting must be conducted in closed session because the test items and data are secure and have not been released to the public. Public disclosure of the secure test items would significantly impede implementation of the NAEP assessment program if conducted in open session. Such matters are protected by exemption 9(B) of section 552b(c) of Title 5 of the United States Code.

During the open session scheduled from 1:30 p.m. to 4:00 p.m. the Assessment Development Committee will review contextual questionnaire items for NAEP Assessments in Reading, Mathematics, and Science.

On Thursday, February 28, 2019, the Executive Committee will convene from 4:30 p.m. to 6:00 p.m. The meeting will be conducted in closed session from 4:45 p.m. to 5:55 p.m. During the closed session, the Executive Committee will receive and discuss cost estimates and implications for implementing the Long-Term Trend (LTT) assessment in 2020 and the enacted NAEP Assessment Schedule. This meeting must be conducted in closed session because public disclosure of this information would likely have an adverse financial effect on the NAEP program by providing confidential cost details and proprietary contract costs of current NAEP contractors to the public. Discussion of this information would be likely to significantly impede implementation of a proposed agency action if conducted in open session. Such matters are protected by exemption 9(B) of section 552b of Title 5 U.S.C. In open session from 5:55 p.m. to 6:00 p.m. the Executive Committee will take action on recommending the Governing Board add LTT assessment to be administered in 2020 for the NAEP Assessment Schedule.

On Friday, March 1, 2019, the Governing Board will meet in open session from 8:30 a.m. to 8:40 a.m. From 8:30 a.m. to 8:40 a.m. the Governing Board will review and approve the March 1-2, 2019 quarterly meeting agenda and meeting minutes from the November 2018 Quarterly Board Meeting. Thereafter the Governing Board Chair will provide remarks.

From 8:40 a.m. to 10:00 a.m. the Governing Board will receive a closed session briefing from Senate and House Congressional staff. The briefing will be on sensitive policy priorities being considered by the U.S. Congress that also have budget implications. These priority discussions relate to program funding areas which are confidential and cannot be discussed in open session. Premature disclosure would likely significantly frustrate implementation of legislative actions. Such matters are protected by Section 9(B) of section 552b(c) of Title 5 of the United States Code.

From 10:00 a.m. to 10:10 a.m., the standing committee chairs will provide a preview of the agenda items for the committee meetings. At 10:10 a.m., the Governing Board will recess for a 10 minute break. Thereafter, committee meetings will take place from 10:20 a.m. to 12:50 p.m.

The Assessment Development Committee will meet in in open session from 10:20 a.m. to 12:50 p.m. The committee will receive an update on the NAEP Mathematics Assessment Framework and review contextual questionnaire items for the NAEP Assessments in Reading, Mathematics and Science and discuss ongoing committee work related to the Strategic Vision.

The Reporting and Dissemination Committee will meet in open session from 10:20 a.m. to 10:25 a.m. and thereafter in closed session from 10:25 a.m. to 10:40 a.m. to review secure items from the 2018 NAEP Technology and Literacy Assessment. This meeting must be conducted in closed session because the test items and data are secure and have not been released to the public. Public disclosure of the secure test items would significantly impede implementation of the NAEP assessment program if conducted in open session. Such matters are protected by exemption 9(B) of section 552b(c) of Title 5 of the United States Code. Following the closed session, the committee will meet in open session from 10:40 a.m. to 12:50 p.m. to discuss ongoing committee work.

The Committee on Standards, Design and Methodology will meet in open session from 10:20 a.m. to 12:00 p.m. to discuss ongoing committee work. From 12:00 p.m. to 12:50 p.m. the committee will receive a closed session briefing on design and analysis plans for the NAEP Writing Assessment. This meeting must be conducted in closed session because the assessment data are secure and have not been released to the public. Public disclosure of the secure test items and data would significantly impede implementation of the NAEP assessment program if conducted in open session. Such matters are protected by exemption 9(B) of section 552b(c) of Title 5 of the United States Code.

Following the committee meetings and a 10 minute break, the Governing Board will convene in two closed session meetings.

The first closed session is scheduled from 1:00 p.m. to 2:30 p.m. to receive a briefing and discuss the 2018 NAEP Technology and Engineering Literacy Report Card for Grade 8. This meeting must be conducted in closed session because the data has not been released to the public. Public disclosure of the secure data would significantly impede implementation of the NAEP assessment program if conducted in open session. Such matters are protected by exemption 9(B) of section 552b(c) of Title 5 of the United States Code.

The Governing Board will then take a 15 minute break and reconvene in the second closed session from 2:45 p.m. to 4:45 p.m. The Governing Board will receive a briefing and discuss the NAEP Assessment Schedule and budget. This meeting must be conducted in closed session because discussions will involve reviewing independent government cost estimates for assessing various NAEP subjects on the assessment schedule. Public disclosure of the cost estimates would significantly impede implementation of the NAEP assessment program if conducted in open session. Such matters are protected by exemption 9(B) of section 552b(c) of Title 5 of the United States Code.

The Governing Board will then meet in open session from 4:45 p.m. to 5:00 p.m. to take action on the LTT Assessment Schedule. The March 1, 2019 session of the Governing Board meeting will adjourn at 5:00 p.m.

On Saturday, March 2, 2019, the Nominations Committee will meet in closed session from 7:30 a.m. to 8:15 a.m. to review and discuss the final slate of candidates for Governing Board vacancies for terms that begin on October 1, 2019. The Nominations Committee's discussions pertain solely to internal personnel rules and practices of an agency and information of a personal nature where disclosure would constitute a clearly unwarranted invasion of personal privacy. As such, the discussions are protected by exemptions 2 and 6 of section 552b(c) of Title 5 of the United States Code.

On March 2, 2019, the Governing Board will meet in closed session from 8:30 a.m. to 9:15 a.m. to take action on the Nomination Committee's recommendation on the final slate of candidates for Governing Board 2019 vacancies for submission to the Secretary of Education for consideration and appointment. The Governing Board's discussions pertain solely to internal personnel rules and practices of an agency and information of a personal nature where disclosure would constitute a clearly unwarranted invasion of personal privacy. As such, the discussions are protected by exemptions 2 and 6 of section 552b(c) of Title 5 of the United States Code.

The Governing Board will then take a 15 minutes break and reconvene in open session from 9:30 a.m. to 10:15 a.m. to receive an update from the Chair of the Assessment Development Committee on the NAEP Reading Framework. Thereafter, the Governing Board will receive reports from its standing committees from 10:15 a.m. to 10:45 a.m. The Governing Board will take action on the charge to the NAEP Reading Framework Panels.

From 10:45 a.m. to 11:45 a.m. the Governing Board will meet in closed session to receive a briefing on plans for reporting results from the 2017 NAEP Writing Assessment. This meeting must be conducted in closed session because the assessment data are secure and have not been released to the public. Public disclosure of the secure test items and data would significantly impede implementation of the NAEP assessment program if conducted in open session. Such matters are protected by exemption 9(B) of section 552b(c) of Title 5 of the United States Code.

The Governing Board will meet in open session from 11:45 a.m. to 12:00 p.m. During this session, the Chair will introduce the new Executive Director who will provide remarks. The March 2, 2019 session of the Governing Board meeting will adjourn at 12:00 p.m.

Access to Records of the Meeting: Pursuant to FACA requirements, the public may also inspect the meeting materials at www.nagb.gov beginning on Thursday, February 28, 2019, by 10:00 a.m. EST. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than 21 days prior to the meeting.

Written comments may be submitted electronically or in hard copy to the attention of the Executive Officer/Designated Federal Official (see contact information noted above). Information on the Governing Board and its work can be found at www.nagb.gov.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress section 301.

Lisa Stooksberry,
Deputy Executive Director, National Assessment Governing Board (NAGB), U. S. Department of Education.

[FR Doc. 2019-02885 Filed 2-20-19; 8:45 am]

BILLING CODE 4000-01-P